DEPARTMENT OF LABOR

Employment and Training Administration

[TA-W-54,253]

Nixon Gear, Inc., Syracuse, NY; Notice of Termination of Investigation

Pursuant to section 221 of the Trade Act of 1974, as amended, an investigation was initiated on February 12, 2004 in response to a petition filed by a state agency representative on behalf of workers of Nixon Gear, Inc., Syracuse, New York.

The petitioner has requested that the petition be withdrawn. Consequently, the investigation has been terminated.

Signed at Washington, DC, this 8th day of March, 2004.
Linda G. Poole,
Certifying Officer, Division of Trade Adjustment Assistance.

[FR Doc. 04-7180 Filed 3-30-04; 8:45 am]

BILLING CODE 4510-30-P